EQUAL EMPLOYMENT OPPORTUNITY COMMISSION

Sunshine Act Notice

Agency Holding the Meeting: Equal Employment Opportunity Commission.

“Federal Register” Citation of Previous Announcement: 73 FR 8667, Thursday, February 14, 2008.

Previously Announced Time and Date of Meeting: Tuesday, February 19, 2008, 10:30 a.m. Eastern Time.

Change in the Meeting: Open Session: Add Item: FY 2008 State & Local Budget Allocations and Designation of Two New Fair Employment Practice Agencies.

Contact Person for More Information: Stephen Llewellyn, Executive Officer, on (202) 663-4070.

Dated: February 14, 2008.
Stephen Llewellyn,
Executive Officer, Executive Secretariat.

[FR Doc. 08-765 Filed 2-14-08; 1:26 pm]

BILLING CODE 6570-01-M